DEPARTMENT OF ENERGY

Federal Energy Regulatory Commission

[Docket No. EL18-6-000]

FirstEnergy Service Company; Notice of Filing

Take notice that on December 6, 2017, FirstEnergy Service Company (Service Company), on behalf of its affiliated franchised public utilities and market-regulated power sales affiliates within the FirstEnergy Corp. holding company system,¹ submitted responses to the request for additional information issued by the Federal Energy Regulatory Commission (Commission) in the above captioned proceeding on November 17, 2017.

¹ As more fully described in Service Company's October 6, 2017 Waiver Request in the above-captioned proceeding, the relevant franchised public utilities, referred to as the FE Franchised Public Utilities, are Jersey Central Power & Light Company, Monongahela Power Company, Pennsylvania Electric Company, and The Potomac Edison Company. Currently, the FE Franchised Public Utilities dispatch their respective generation resources through a single generation dispatch group. The Market-regulated power sales affiliates are FirstEnergy Solutions Corp. (“Solutions”) and Allegheny Energy Supply Company, LLC (“AE Supply”). Currently, Solutions dispatches all of the output of the generation that is owned or controlled by Solutions and AE Supply.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE, Washington, DC 20426.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on December 27, 2017.

Dated: December 15, 2017.
Nathaniel J. Davis, Sr.,
Deputy Secretary.

[FR Doc. 2017-27495 Filed 12-20-17; 8:45 am]

BILLING CODE 6717-01-P